DEPARTMENT OF THE INTERIOR

Fish and Wildlife Service

DEPARTMENT OF COMMERCE

National Oceanic and Atmospheric Administration

Endangered and Threatened Wildlife and Plants; Guidance on Evaluating the Net Benefit of Hazardous Fuels Treatment Projects

AGENCIES: Fish and Wildlife Service (USFWS), Interior; National Marine Fisheries Service (NMFS), National Oceanic and Atmospheric Administration, Commerce.

ACTION: Notice of availability.

SUMMARY: The Fish and Wildlife Service and National Marine Fisheries Service (Services) announce the availability of guidance on evaluating the net benefit of projects that reduce hazardous fuels. The guidance recommends that managers evaluate the net benefits of such projects during the consultation process conducted under section 7 of the Endangered Species Act of 1973, as amended (Act). While reducing hazardous fuels may have short- or long-term adverse effects on some species, the long-term net benefit can be substantial and sustaining to the species. This guidance will help ensure consistency in the approach the Services use to analyze the risks and benefits of implementing projects to reduce hazardous fuels.

ADDRESSES: Electronic copies of this guidance may be obtained from the USFWS World Wide Web Consultation Home Page at: http://endangered.fws.gov/consultations/forestplan.html. Written copies of this guidance may be obtained from the Chief of the Division of Consultation, Habitat Conservation Planning, Recovery, and State Grants, United States Fish and Wildlife Service, 4401 North Fairfax Drive, Room 420, Arlington, Virginia 22203, or the Chief of the Endangered Species Division, Office of Protected Resources, National Marine Fisheries Service, 1315 East-West Highway, Silver Spring, Maryland 20910.

FOR FURTHER INFORMATION CONTACT: Rick Sayers, Chief, Branch of Consultation and Habitat Conservation Planning (Telephone 703/358-2106, Facsimile 703/358-1735).

SUPPLEMENTARY INFORMATION:

Background

In response to recent damaging wildland fires, the Departments of the Interior and Agriculture have developed the National Fire Plan, which, among other things, calls for a substantial increase in the number of forested acres treated annually to reduce hazardous fuels. As part of this effort, agencies must consult with the Services, in accordance with section 7 of the Act and comply with other applicable requirements of various environmental laws and regulations.

Under section 7(a)(2) of the Act, each Federal agency must, in consultation with the Services, ensure that any action it funds, authorizes, or carries out is not likely to jeopardize the continued existence of any endangered or threatened species or adversely modify designated critical habitat. Therefore, Federal land management agencies must complete section 7 consultation in accordance with procedures identified at 50 CFR part 402 before implementing any project to reduce hazardous fuels. It is essential that these consultations be carried out as quickly and efficiently as possible to promote the timely implementation of preventative actions that will help to ensure public safety.

Preventative actions that will help ensure public safety are among the goals of the President's recently announced Healthy Forest Initiative, which will implement core components of the National Fire Plan. As part of the Healthy Forest Initiative, the Services have developed a guidance document to ensure consistency in the approach the Services use to analyze the risks and benefits of implementing actions to reduce hazardous fuels during the section 7 consultation process.

Some projects may have short-term adverse effects on some endangered and threatened listed species; however, at the same time, these projects present opportunities for significant long-term benefits to those species and their habitats. The guidance document encourages the Services to evaluate and balance the long-term benefits of fuels reduction projects, including the benefits of restoring the natural fire regimes and native vegetation, as well as the long-term risks of catastrophic wildfire, against any short- or long-term adverse effects.

All procedures identified in the guidance document are consistent with the requirements of section 7(a)(2) of the Act and its implementing regulations (50 CFR part 402).

The Services are publishing this notice in order to advise other agencies and the public of the availability of the guidance document and to encourage its use.

Authority: The authority for this action is the Endangered Species Act, as amended (16 U.S.C. 1531 et seq.).

Dated: December 20, 2002.
William T. Hogarth,
Assistant Administrator for Fisheries, National Marine Fisheries Service.
Dated: December 27, 2002.
Steve Williams,
Director, Fish and Wildlife Service.

[FR Doc. 03-578 Filed 1-10-03; 8:45 am]

BILLING CODE 3510-22-P; 4310-55-P